DEPARTMENT OF AGRICULTURE

Agricultural Marketing Service

[TM-00-10]

Notice of Meeting of the National Organic Standards Board

AGENCY: Agricultural Marketing Service, USDA.

ACTION: Notice.

SUMMARY: In accordance with the Federal Advisory Committee Act, as amended, the Agricultural Marketing Service (AMS) announces a forthcoming meeting of the National Organic Standards Board (NOSB).

DATES: November 15, 2000, from 2:00 p.m. to 4.30 p.m.; November 16, 2000, 9:00 a.m. to 5:30 p.m.; and November 17, 2000, 8:30 a.m. to 3:00 p.m. (Eastern Daylight Time each day).

PLACE: The Department of Agriculture, Economic Research Service, 1800 M Street, NW, Waugh Auditorium, 3rd Floor Room, Washington, DC. Telephone: (202) 694-5103.

FOR FURTHER INFORMATION CONTACT: Keith Jones, Program Manager, National Organic Program, USDA-AMS-TMP-NOP, Room 2945-So., Ag Stop 0268, P.O. Box 96456, Washington, D.C. 20090-6456, Telephone: (202) 720-3252.

SUPPLEMENTARY INFORMATION: Section 2119 (7 U.S.C. 6518) of the Organic Foods Production Act of 1990 (OFPA), as amended (7 U.S.C. Section 6501 et seq.) requires the establishment of the NOSB. The purpose of the NOSB is to make recommendations about whether a substance should be allowed or prohibited in organic production or handling, to assist in the development of standards for substances to be used in organic production and to advise the Secretary on any other aspects of the implementation of OFPA. The NOSB met for the first time in Washington, D.C., in March 1992 and currently has five committees working on various aspects of the program. The committees are: Accreditation, Crops, Livestock, Materials, and Processing.

In August of 1994, the NOSB provided its initial recommendations for the National Organic Program (NOP) to the Secretary of Agriculture. Since that time the NOSB has submitted 30 addenda to its recommendations and reviewed more than 170 substances for inclusion on the National List of Allowed and Prohibited Substances. The last meeting of the NOSB was held on June 6-8, 2000, in Washington, DC.

The Department of Agriculture (USDA) published its re-proposed National Organic Program regulation in the Federal Register on March 13, 2000 (65 FR 13512). Comments were accepted until June 12, 2000. Forty thousand seven hundred and seventy four (40,774) comments were received during the comment period.

Purpose and Agenda

The principal purposes of this meeting are to provide an opportunity for the NOSB to: receive committee reports; receive an update from the Aquatic Task Force Working Group; receive an update from the USDA/NOP; and review materials for possible inclusion on, or removal from, the National List of Approved and Prohibited Substances. Materials to be reviewed at the meeting are periacetic acid, calcium borogluconate, animal enzymes, leather meal and sodium chlorate. For further information see http://www.ams.usda.gov/nop. Copies of the NOSB meeting agenda can be requested from Mrs. Toni Strother, USDA-AMS-TMP-NOP, Room 2510-So., Ag Stop 0268, P.O. Box 96456, Washington, D.C. 20090-6456; by phone at (202) 720-3252; or by accessing the NOP website at http://www.ams.usda.gov/nop.

Type of Meeting

This meeting is open to the public. The NOSB has scheduled time for public input on Wednesday, November 15, 2000, from 2:00 p.m. until 4:30 p.m. at the USDA Economic Research Service, 1800 M Street, NW, South Tower, Waugh Auditorium, 3rd Floor, Washington, D.C. 20036. Telephone: (202) 694-5103. Individuals and organizations wishing to make an oral presentation at the meeting should forward their request to Mrs. Toni Strother at the above address or by FAX to (202) 205-7808 by close of business November 13, 2000. While persons wishing to make a presentation may sign up at the door, advance registration will ensure an opportunity to speak during the allotted time period and will help the NOSB to better manage the meeting and accomplish its agenda. Individuals or organizations will be given approximately 5 minutes to present their views. All persons making an oral presentation are requested to provide their comments in writing, if possible. Written submissions may contain information other than presented at the oral presentation. Written comments may be submitted to the NOSB at the meeting or to Mrs. Strother after the meeting at the above address.

Dated: October 26, 2000.
James A. Caron,
Acting Deputy Administrator, Transportation and Marketing.

[FR Doc. 00-27896 Filed 10-27-00; 12:31 am]

BILLING CODE 3410-02-P